ELECTION ASSISTANCE COMMISSION

Sunshine Act Meetings

AGENCY: U.S. Election Assistance Commission.

ACTION: Sunshine Act notice; notice of public meeting agenda.

SUMMARY: The EAC Data Summit: How the U.S. Voted in the 2022 Midterms.

DATES: Wednesday, July 19, 12 p.m. eastern.

ADDRESSES: The U.S. Election Assistance Commission hearing room at 633 3rd St. NW, Washington, DC 20001. The meeting is open to the public and will be livestreamed on the U.S. Election Assistance Commission's YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting to review significant 2022 Election Administration and Voting Survey (EAVS) findings, and how the EAVS can be utilized by election officials, academics, and other stakeholders to improve elections.

Agenda: The U.S. Election Assistance Commission (EAC) will host panels featuring election administrators, EAC staff, and election subject matter experts. They will discuss the findings of the 2022 EAVS, how voting and election administration have changed since the last midterm election in 2018, and how this information can be used to prepare for the 2024 presidential election.

Background: In 2002, Congress charged the U.S. Election Assistance Commission (EAC) with the task of collecting information on the state of American elections and making it widely available to policymakers, advocates, scholars, journalists, and the general public. Since 2004, the EAC has sponsored the biennially administered Election Administration and Voting Survey (EAVS), which surveys all 50 U.S. states, the District of Columbia, American Samoa, Guam, Northern Mariana Islands, Puerto Rico, and the U.S. Virgin Islands. It is the most comprehensive source of state and local jurisdiction-level data about election administration in the United States.

Topics covered through EAVS data collection include voter registration and list maintenance, voting practices for overseas citizens and members of the armed forces serving away from home, voter participation, election technology, and other important issues related to voting and election administration. These data are vital in helping election officials, policymakers, and other election stakeholders identify trends, anticipate and respond to changing voter needs, invest resources to improve election administration and the voter experience, and better secure U.S. elections infrastructure.

The 2022 EAVS Comprehensive Report and previous EAVS reports are available on the EAC's studies and report web page: https://www.eac.gov/research-and-data/studies-and-reports.

Prior to 2014, this data was reported in three different reports—the National Voter Registration Act (NVRA) report, the Uniformed and Overseas Citizens Absentee Voting Act (UOCAVA) report, and the Election Day Survey. Since 2008, this project has included a separate survey, the Election Administration Policy Survey (Policy Survey), that gathers information about state election laws, policies, and practices. The Policy Survey was known as the Statutory Overview survey prior to 2018.

The full agenda will be posted in advance on the EAC website: https://www.eac.gov.

Status: This meeting will be open to the public.

Camden Kelliher,
Senior Associate Counsel, U.S. Election Assistance Commission.

[FR Doc. 2023-13708 Filed 6-23-23; 11:15 am]

BILLING CODE 4810-71-P